DEPARTMENT OF COMMERCE

International Trade Administration

[A-570-981]

Utility Scale Wind Towers From the People's Republic of China: Rescission of Antidumping Duty Administrative Review; 2022-2023

AGENCY: Enforcement and Compliance, International Trade Administration, Department of Commerce.

SUMMARY: The U.S. Department of Commerce (Commerce) is rescinding the administrative review of the antidumping duty order on utility scale wind towers (wind towers) from the People's Republic of China (China) for the period of review (POR) February 1, 2022, through January 31, 2023.

DATES: Applicable March 4, 2024.

FOR FURTHER INFORMATION CONTACT: Zachary Shaykin, AD/CVD Operations, Office IV, Enforcement and Compliance, International Trade Administration, U.S. Department of Commerce, 1401 Constitution Avenue NW, Washington, DC 20230; telephone: (202) 482-2638.

SUPPLEMENTARY INFORMATION:

Background

On February 2, 2023, Commerce published in the Federal Register a notice of opportunity to request an administrative review of the antidumping duty order on wind towers from China.¹ On February 28, 2023, the Wind Tower Trade Coalition (the petitioner) submitted a timely request that Commerce conduct an administrative review.²

¹ See Antidumping or Countervailing Duty Order, Finding, or Suspended Investigation, Opportunity to Request Administrative Review and Join Annual Inquiry Service List, 88 FR 7071 (February 2, 2023).

² See Petitioner's Letter, “Request for Administrative Review,” dated February 28, 2023.

On April 11, 2023, Commerce published in the Federal Register a notice of initiation of an administrative review with respect to imports of wind towers exported and/or produced by 48 exporters and/or producers of wind towers from China, in accordance with section 751(a) of the Tariff Act of 1930, as amended (the Act), and 19 CFR 351.221(c)(1)(i).³ On May 2, 2023, we placed on the record U.S. Customs and Border Protection (CBP) data for entries of wind towers from China during the POR, showing no reviewable POR entries and invited interested parties to comment.⁴ On May 9, 2023, the petitioner submitted comments requesting that Commerce review the CBP data and confirm that all wind towers potentially imported into the United States from China were properly reported to CBP.⁵

³ See Initiation of Antidumping and Countervailing Duty Administrative Reviews, 88 FR 21609 (April 11, 2023).

⁴ See Memorandum, “Customs and Border Protection Data Query,” dated May 2, 2023.

⁵ See Petitioner's Letter, “Comments on CBP Data Query,” dated May 9, 2023.

In response to the petitioner's comments, on June 15, 2023, we again placed on the record CBP data for wind towers from China during the POR, showing no reviewable POR entries and invited interested parties to comment.⁶ On June 23, 2023, the petitioner submitted comments requesting that Commerce coordinate with CBP to confirm whether wind towers initially shipped into the United States from China were subsequently shipped to Canada, or whether such shipments were reexported into the United States.⁷ On September 5, 2023, Commerce addressed the petitioner's comments and indicated that it would refer the information gathered in this review to CBP.⁸

⁶ See Memorandum, “Second Customs and Border Protection Data Query,” dated June 15, 2023.

⁷ See Petitioner's Letter, “Comments on Second CBP Data Query,” dated June 23, 2023, at 3.

⁸ See Memorandum, “Comments on Customs & Border Protection Data Query,” dated September 5, 2023. Commerce referred the petitioner's comments regarding CBP data on February 23, 2024.

On October 30, 2023, Commerce extended the deadline for the preliminary results of this review until February 28, 2024.⁹ Additionally, on December 8, 2023, Commerce notified all interested parties of its intent to rescind the instant review in whole because there were no reviewable, suspended entries of subject merchandise by any of the companies subject to this review during the POR and invited interested parties to comment.¹⁰ No interested party submitted comments to Commerce.

⁹ See Memorandum, “Extension of Deadline for Preliminary Results of Antidumping Duty Administrative Review,” dated October 30, 2023.

¹⁰ See Memorandum, “Intent to Rescind Review,” dated December 8, 2023.

Rescission of Review

Pursuant to 19 CFR 351.213(d)(3), it is Commerce's practice to rescind an administrative review of an antidumping duty order when there are no reviewable entries of subject merchandise during the POR for which liquidation is suspended.¹¹ Normally, upon completion of an administrative review, the suspended entries are liquidated at the antidumping duty assessment rate calculated for the review period.¹² Therefore, for an administrative review to be conducted, there must be at least one reviewable, suspended entry that Commerce can instruct CBP to liquidate at the antidumping duty assessment rate calculated for the review period.¹³ As noted above, there were no entries of subject merchandise for any of the companies subject to this review during the POR. Accordingly, in the absence of suspended entries of subject merchandise during the POR, we are hereby rescinding this administrative review, in its entirety, in accordance with 19 CFR 351.213(d)(3).

¹¹ See, e.g., Dioctyl Terephthalate from the Republic of Korea: Rescission of Antidumping Administrative Review; 2021-2022, 88 FR 24758 (April 24, 2023); see also Certain Carbon and Alloy Steel Cut- to Length Plate from the Federal Republic of Germany: Recission of Antidumping Administrative Review; 2020-2021, 88 FR 4157 (January 24, 2023).

¹² See 19 CFR 351.212(b)(1).

¹³ See 19 CFR 351.213(d)(3).

Assessment

Commerce will instruct CBP to assess antidumping duties on all appropriate entries. Antidumping duties shall be assessed at rates equal to the cash deposit of estimated antidumping duties required at the time of entry, or withdrawal from warehouse, for consumption, in accordance with 19 CFR 351.212(c)(1)(i). Commerce intends to issue assessment instructions to CBP no earlier than 35 days after the date of publication of this rescission notice in the Federal Register.

Administrative Protective Order

This notice serves as the only reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is issued and published in accordance with sections 751(a)(1) and 777(i)(1) of the Act, and 19 CFR 351.213(d)(4).

Dated: February 27, 2024.
James Maeder,
Deputy Assistant Secretary for Antidumping and Countervailing Duty Operations.

[FR Doc. 2024-04493 Filed 3-1-24; 8:45 am]

BILLING CODE 3510-DS-P